INTERNATIONAL TRADE COMMISSION

[USITC SE-18-030]

Government in the Sunshine Act Meeting Notice

AGENCY HOLDING THE MEETING: United States International Trade Commission.

TIME AND DATE: July 5, 2018 at 11:00 a.m.

PLACE: Room 101, 500 E Street SW, Washington, DC 20436, Telephone: (202) 205-2000.

STATUS: Open to the public.

MATTERS TO BE CONSIDERED:

1. Agendas for future meetings: None.

2. Minutes.

3. Ratification List.

4. Vote on Inv. Nos. 701-TA-607 and 731-TA-1417 and 1419 (Preliminary) (Steel Propane Cylinders from China and Thailand). The Commission is currently scheduled to complete and file its determinations on July 6, 2018; views of the Commission are currently scheduled to be completed and filed on July 13, 2018.

5. Outstanding action jackets: None.

In accordance with Commission policy, subject matter listed above, not disposed of at the scheduled meeting, may be carried over to the agenda of the following meeting.

By order of the Commission.
Issued: June 25, 2018.
William Bishop,
Supervisory Hearings and Information Officer.

[FR Doc. 2018-14000 Filed 6-26-18; 11:15 am]

BILLING CODE 7020-02-P